NUCLEAR REGULATORY COMMISSION

[Docket Nos. 50-341; NRC-2014-0109]

DTE Electric Company; Fermi 2 Nuclear Power Plant

AGENCY: Nuclear Regulatory Commission.

ACTION: Draft supplemental environmental impact statement; issuance, public meeting, and request for comment.

SUMMARY: The U.S. Nuclear Regulatory Commission (NRC) is issuing for public comment a draft plant-specific supplement, Supplement 56, to NUREG-1437, “Generic Environmental Impact Statement for License Renewal of Nuclear Plants” (GEIS), regarding the renewal of DTE Electric Company (DTE) operating license NPF-43 for Fermi 2 for an additional 20 years of operation. Possible alternatives to the proposed action (license renewal) include no action and reasonable alternative energy sources. The NRC staff plans to hold one public meeting during the public comment period to present an overview of the draft plant-specific supplements to the GEIS and to accept public comments on the document.

DATES: Submit comments by December 28, 2015. Comments received after this date will be considered, if it is practical to do so, but the NRC staff is able to ensure consideration only for comments received on or before this date.

ADDRESSES: You may submit comments by any of the following methods (unless this document describes a different method for submitting comments on a specific subject):

• Federal Rulemaking Web site: Go to http://www.regulations.gov and search for Docket ID NRC-2014-0109. Address questions about NRC dockets to Carol Gallagher; telephone: 301-415-3463; email: Carol.Gallagher@nrc.gov. For technical questions, contact the individual listed in the FOR FURTHER INFORMATION CONTACT section of this document.

• Mail Comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Elaine Keegan, Office of Nuclear Reactor Regulation, U.S. Nuclear Regulatory Commission, Washington, DC 20555-0001; telephone: 1-800-368-5642, extension 8517; email: Elaine.Keegan@nrc.gov.

SUPPLEMENTARY INFORMATION:

I. Obtaining Information and Submitting Comments

A. Obtaining Information

Please refer to Docket ID NRC-2014-0109 when contacting the NRC about the availablitiy of information for this action. You may obtain publicly-available information related to this action by any of the following methods:

• Federal Rulemaking Web site: Go to http://www.regulations.gov and search for Docket ID NRC-2014-0109.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft plant-specific supplement GEIS is available in ADAMS under Accession No. ML15300A064 for Volume 1 and ML15300A073 for Volume 2.

• NRC's PDR: You may examine and purchase copies of public documents at the NRC's PDR, Room O1-F21, One White Flint North, 11555 Rockville Pike, Rockville, Maryland 20852.

B. Submitting Comments

Please include Docket ID NRC-2014-0109 in your comment submission.

The NRC cautions you not to include identifying or contact information that you do not want to be publicly disclosed in your comment submission. The NRC posts all comment submissions at http://www.regulations.gov as well as entering the comment submissions into ADAMS. The NRC does not routinely edit comments submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

The NRC is issuing for public comment the draft plant-specific Supplement 56 to the GEIS for license renewal of nuclear plants, NUREG-1437, regarding the renewal of operating license, NPF-43 for an additional 20 years of operation for Fermi 2. Supplement 56 to the GEIS includes the preliminary analysis that evaluates the environmental impacts of the proposed action and alternatives to the proposed action. The NRC's preliminary recommendation is that the adverse environmental impacts of license renewal for Fermi 2 are not great enough to deny the option of license renewal for energy-planning decisionmakers.

III. Public Meetings

The NRC staff will hold a public meeting prior to the close of the public comment period to present an overview of the draft plant-specific supplement to the GEIS and to accept public comment on the document. The meeting will be held at the Monroe County Community College, La-Z-Boy-Center 1555 S. Raisinville Road, Monroe, Michigan on Wednesday, December 2, 2015. There will be a registration period from 6:30 p.m. until 7:00 p.m. The meeting will start at 7:00 p.m. and continue until 9:00 p.m., as necessary. The meeting will be transcribed and will include: (1) A presentation of the contents of the draft plant-specific supplement to the GEIS; and (2) the opportunity for interested government agencies, organizations, and individuals to provide comments on the draft report. To be considered in the final supplement to the GEIS, comments must be provided either at the transcribed public meeting or submitted in writing by the comment deadline identified in the DATES section of this notice. Persons may pre-register to attend or present oral comments at the meeting by contacting Ms. Elaine Keegan, the NRC project manager, at 1-800-368-5642, extension 8517, or by email at Elaine.Keegan@nrc.gov no later than Tuesday, November 24, 2015. Members of the public may also register to provide oral comments during the registration period prior to the meeting. Individual oral comments may be limited by the time available, depending on the number of persons who register. If special equipment or accommodations are needed to attend or present information at the public meeting, the need should be brought to Ms. Keegan's attention no later than Tuesday, November 24, 2015, in order to provide the NRC staff with adequate notice to determine whether the request can be accommodated. Additional details regarding the meeting will be posted at least 10 days prior to the public meeting on the NRC's Public Meeting Schedule Web site at http://www.nrc.gov/public-involve/public-meetings/index.cfm.

Dated at Rockville, Maryland, this 29 day of October 2015.
For the Nuclear Regulatory Commission.
James G. Danna,
Chief, Projects Branch 2, Division of License Renewal, Office of Nuclear Reactor Regulation.

[FR Doc. 2015-28265 Filed 11-5-15; 8:45 am]

BILLING CODE 7590-01-P